ENVIRONMENTAL PROTECTION AGENCY

[FRL-7801-4]

Meeting of the Local Government Advisory Committee

AGENCY: Environmental Protection Agency (EPA).

ACTION: Notice.

SUMMARY: The Local Government Advisory Committee (LGAC) will meet on September 8-9, 2004, in Washington, DC. The Committee will be discussing issues concerning the relationship between Local Government and the U.S. Environmental Protection Agency (EPA). The meeting will include briefings from various EPA offices on current environmental issues. Subcommittees will have breakout sessions and report to the full committee with recommendations and provide the status of follow-up items.

The Committee will hear comments from the public between 10 a.m.-10:15 a.m. on September 9, 2004. Each individual or organization wishing to address the LGAC meeting will be allowed a maximum of five minutes to present their points of view. Please contact the Designated Federal Officer (DFO) at the numbers listed below to schedule agenda time. Time will be allotted on a first come, first served basis, and the total period for comments may be extended, if the number of requests for appearances required it.

These are open meetings and all interested persons are invited to attend. LGAC meeting minutes and Subcommittee summary notes will be available after the meetings and can be obtained by written request from the DFO. Members of the public are requested to call the DFO at the number listed below if planning to attend so that arrangements can be made to comfortably accommodate attendees as much as possible. Seating will be on a first come, first served basis.

DATES: The Local Government Advisory Committee plenary session will begin at 8:30 a.m. Wednesday, September 8th and conclude at 5 p.m. Thursday, September 9th.

ADDRESSES: The meetings will be held in Washington, DC at the Hotel Washington, located at 515 15th Street NW., in the Federal Conference Room.

Additional information can be obtained by writing the DFO at 1200 Pennsylvania Avenue, NW., (1301A), Washington, DC 20460.

FOR FURTHER INFORMATION CONTACT: The DFO for the Local Government Advisory Committee (LGAC) is Pamela Luttner (202) 564-3107.

Information on Services for the Handicapped: For information on facilities or services for the handicapped or to request special assistance at the meetings, contact the Designated Federal Officer at (202) 564-3107 as soon as possible.

Dated: July 29, 2004.
Pamela Luttner,
Designated Federal Officer, Local Government Advisory Committee.

[FR Doc. 04-18662 Filed 8-13-04; 8:45 am]

BILLING CODE 6560-50-P